DEPARTMENT OF THE INTERIOR

Fish and Wildlife Service

Endangered Species Recovery Permit Applications

AGENCY: Fish and Wildlife Service, Interior.

ACTION: Notice of receipt of permit applications; request for comment.

SUMMARY: We invite the public to comment on the following applications to conduct certain activities with endangered species.

DATES: Comments on these permit applications must be received on or before January 22, 2007.

ADDRESSES: Written data or comments should be submitted to the U.S. Fish and Wildlife Service, Chief, Endangered Species, Ecological Services, 911 NE. 11th Avenue, Portland, Oregon 97232-4181 (telephone: 503-231-2063; fax: 503-231-6243). Please refer to the respective permit number for each application when submitting comments. All comments received, including names and addresses, will become part of the official administrative record and may be made available to the public.

FOR FURTHER INFORMATION CONTACT: Linda Belluomini, Fish and Wildlife Biologist, at the above Portland address, (telephone: 503-231-2063; fax: 503-231-6243).

SUPPLEMENTARY INFORMATION: The following applicants have applied for scientific research permits to conduct certain activities with endangered species pursuant to section 10(a)(1)(A) of the Endangered Species Act (16 U.S.C. 1531 et seq.). The U.S. Fish and Wildlife Service (we) solicits review and comment from local, State, and Federal agencies, and the public on the following permit requests.

Permit No. TE-135948

Applicant: Natalie Brodie, San Diego, California

The applicant requests a permit to take (survey by pursuit) the Quino checkerspot butterfly (Euphydryas editha quino) in conjunction with surveys throughout the range of the species in California for the purpose of enhancing its survival.

Permit No TE-816187

Applicant: David Cook, Santa Rosa, California

The permittee requests an amendment to take (harass by survey, mark, collect tissue samples, release, and recapture) the California tiger salamander (Ambystoma californiense) in conjunction with ecology, distribution, and genetics research in Sonoma County, California, for the purpose of enhancing its survival.

Permit No. TE-135974

Applicant: Michael S. Marangio, El Cerrito, California

The applicant requests a permit to take (harass by survey, capture, and release) the California tiger salamander (Ambystoma californiense) and the Santa Cruz long-toed salamander (Ambystoma macrodactylum croceum) in conjunction with surveys throughout the range of each species in California for the purpose of enhancing their survival.

Permit No. TE-051242

Applicant: Monica Alfaro, San Diego, California

The applicant requests a permit to take (survey by pursuit) the Quino checkerspot butterfly (Euphydryas editha quino) in conjunction with surveys throughout the range of the species in California for the purpose of enhancing its survival.

Permit No. TE-051236

Applicant: Erika Alfaro, San Diego, California

The permittee requests an amendment to take (survey by pursuit) the Quino checkerspot butterfly (Euphydryas editha quino) in conjunction with surveys throughout the range of the species in California for the purpose of enhancing its survival.

Permit No. TE-136973

Applicant: Judi Tamasi, Santa Monica, California

The applicant requests a permit to take (survey, collect, and kill) the Riverside fairy shrimp (Streptocephalus wootoni) in conjunction with monitoring in Ventura County, California, for the purpose of enhancing its survival.

Permit No. TE-096745

Applicant: Scott Larsen, Oakhurst, California

The permittee requests an amendment to take (harass by survey, capture, and release) the California tiger salamander (Ambystoma californiense) in conjunction with surveys throughout the range of the species in California for the purpose of enhancing its survival.

Permit No. TE-137006

Applicant: Thea B. Benson, Paso Robles, California

The applicant requests a permit to take (harass by survey) the southwestern willow flycatcher (Empidonax trailli extimus) in conjunction with surveys throughout the range of the species in California for the purpose of enhancing its survival.

Permit No. TE-138603

Applicant: Edward F. Woch, San Diego, California

The applicant requests a permit to take (survey by pursuit) the Quino checkerspot butterfly (Euphydryas editha quino) in conjunction with surveys throughout the range of the species in California for the purpose of enhancing its survival.

Permit No. TE-122123

Applicant: Douglas McNair, Pasadena, California

The applicant requests a permit to take (harass by survey, monitor, capture, and band) the light footed clapper rail (Rallus longirostris levipes), the Yuma clapper rail (Rallus longirostris yumanensis), the California clapper rail (Rallus longirostris obsoletus), and the California least tern (Sternula antillarum) in conjunction with monitoring and other life history studies throughout the range of each species in California and Arizona for the purpose of enhancing their survival.

We solicit public review and comment on each of these recovery permit applications. Our practice is to make comments, including names and home addresses of respondents, available for public review during regular business hours. Individual respondents may request that we withhold their home addresses from the record, which we will honor to the extent allowable by law. There also may be circumstances in which we would withhold from the record a respondent's identity, as allowable by law. If you wish us to withhold your name and/or address, you must state this prominently at the beginning of your comment, but you should be aware that we may be required to disclose your name and address pursuant to the Freedom of Information Act. However, we will not consider anonymous comments. We will make all submissions from organizations or businesses, and from individuals identifying themselves as representatives or officials of organizations or businesses, available for public inspection in their entirety. Comments and materials received will be available for public inspection, by appointment, during normal business hours at the above address.

Dated: November 17, 2006.
Michael Fris,
Acting Manager, California/Nevada Operations Office, U.S. Fish and Wildlife Service.

[FR Doc. E6-21926 Filed 12-21-06; 8:45 am]

BILLING CODE 4310-55-P